BUREAU OF CONSUMER FINANCIAL PROTECTION

[Docket No. CFPB-2021-0017]

Notice and Request for Comment Regarding the CFPB's Inquiry Into Big Tech Payment Platforms

AGENCY: Bureau of Consumer Financial Protection.

ACTION: Notice; request for comment; re-opening of comment period.

SUMMARY: On October 21, 2021, the Consumer Financial Protection (Bureau or CFPB) ordered six large technology companies operating payments systems in the United States to provide information about certain of their business practices. Accompanying the orders, the Director of the Bureau issued a statement and invited interested parties to comment on the inquiry. The statement and request for comment was published in the Federal Register on November 5, 2021, in a document titled, “Notice and Request for Comment Regarding the CFPB's Inquiry Into Big Tech Payment Platforms.” The Bureau has determined that a re-opening of the comment period until December 21, 2021, is appropriate.

DATES: The end of the comment period for the document titled, “Notice and Request for Comment Regarding the CFPB's Inquiry Into Big Tech Payment Platforms,” published on November 5, 2021 (86 FR 61182), is reopened from December 6, 2021, until December 21, 2021.

ADDRESSES: You may submit comments by any of the methods identified in the notice.¹

¹ See 86 FR 61182 (Nov. 5, 2021).

FOR FURTHER INFORMATION CONTACT: Amy Zirkle, Program Manager for Payments & Deposits, (202) 435-7505. If you require this document in an alternative electronic format, please contact CFPB_Accessibility@cfpb.gov.

SUPPLEMENTARY INFORMATION: On October 21, 2021, the Bureau ordered six large technology companies operating payments systems in the United States to provide information about certain of their business practices. The information will help the CFPB better understand how these firms use personal payments data and manage data access to users so the Bureau can ensure adequate consumer protection. Accompanying the orders, the Director of the Bureau issued a statement and invited interested parties to comment on the inquiry. The statement and request for comment that published in the Federal Register stated that the comment period would close on December 6, 2021. Allowing an additional comment period will provide additional opportunity for the public to prepare comments related to this inquiry. Therefore, the Bureau is re-opening the comment period for this request until December 21, 2021. The Bureau will also accept any comments that arrive between the time the original comment period closed on December 6, 2021, and December 7, 2021.

Rohit Chopra,
Director, Bureau of Consumer Financial Protection.

[FR Doc. 2021-26562 Filed 12-3-21; 4:15 pm]

BILLING CODE 4810-AM-P